DEPARTMENT OF COMMERCE

Foreign-Trade Zones Board

[Order No. 1075]

Designation of New Grantee for Foreign-Trade Zone 134, Chattanooga, TN; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 9/16/99) submitted by the Partners for Economic Progress, Inc. (PEP), grantee of FTZ 134, Chattanooga, Tennessee, requesting reissuance of the grant of authority for said zone to the Chattanooga Chamber Foundation (CCF), a Tennessee not-for-profit corporation, which has accepted such reissuance subject to approval of the FTZ Board. Upon review, the Board finds that the requirements of the FTZ Act and the Board's regulations are satisfied, and that the proposal is in the public interest, approves the request and recognizes CCF as the new grantee of Foreign-Trade Zone 134.

The FTZ Board approves the proposal subject to the FTZ Act and the FTZ Board's regulations, including section 400.28.

Signed at Washington, DC, this 22nd day of February 2000.
Attest:
Dennis Puccinelli,
Acting Executive Secretary.
Robert S. LaRussa,
Assistant Secretary of Commerce for Import Administration, Alternate Chairman, Foreign-Trade Zones Board.

[FR Doc. 00-5216 Filed 3-2-00; 8:45 am]

BILLING CODE 3510-DS-P